DEPARTMENT OF HEALTH AND HUMAN SERVICES

Centers for Disease Control and Prevention

[CDC-2024-0065; Docket Number NIOSH-352-A]

Draft Hazard Review: Wildland Fire Smoke Exposure Among Farmworkers and Other Outdoor Workers

AGENCY: Centers for Disease Control and Prevention (CDC), Department of Health and Human Services (HHS).

ACTION: Extension of comment period and announcement of informational webinar.

SUMMARY: On September 13, 2024, NIOSH published a notice in the Federal Register announcing public comment and technical review on the draft Hazard Review: Wildland Fire Smoke Exposure Among Farmworkers and Other Outdoor Workers. Written comments were to be received by November 12, 2024. NIOSH is extending the public comment period to January 10, 2025. NIOSH will also convene an informational webinar to present an overview about the draft Hazard Review document, describe its content and purpose, and provide information about the public comment period. The webinar is scheduled to occur on Tuesday, December 3, 2024, at 1:00 p.m. Eastern Time (US and Canada). Attendees are requested to register in advance for this webinar.

DATES: Registration for the webinar must occur on or before the date of the webinar, December 3, 2024. The comment period for the draft Hazard Review: Wildland Fire Smoke Exposure Among Farmworkers and Other Outdoor Workers, published September 13, 2024 at 89 FR 74960, is extended. Electronic or written comments must be received by January 10, 2025, at 11:59 p.m.

ADDRESSES: Register in advance for the webinar at the following link. Attendance for the webinar is limited to 3,000 participants: https://cdc.zoomgov.com/webinar/register/WN_lnOhz1wMTNyr_06z1hYgRw.

You may submit comments on the draft Hazard Review: Wildland Fire Smoke Exposure Among Farmworkers and Other Outdoor Workers, identified by CDC-2024-0065 and Docket Number NIOSH-352-A, by either of the following two methods:

• Federal eRulemaking Portal: https://www.regulations.gov. Follow the instructions for submitting comments.

• Mail: National Institute for Occupational Safety and Health, NIOSH Docket Office, 1090 Tusculum Avenue, MS C-34, Cincinnati, Ohio 45226-1998.

Instructions: All information received in response to this notice must include the agency name and docket number (CDC-2024-0065; NIOSH-352-A). All relevant comments, including any personal information provided, will be posted without change to https://www.regulations.gov. Do not submit comments by email. CDC does not accept comments by email. For access to the docket to read the draft Hazard Review document or comments received, go to https://www.regulations.gov.

FOR FURTHER INFORMATION CONTACT: R. Todd Niemeier, Ph.D., National Institute for Occupational Safety and Health, MS-C15, 1090 Tusculum Avenue, Cincinnati, OH 45226. Telephone: (513) 533-8166.

SUPPLEMENTARY INFORMATION: NIOSH is requesting public comment and technical review of the draft Hazard Review: Wildland Fire Smoke Exposure Among Farmworkers and Other Outdoor Workers, which is accessible in the docket (CDC-2024-0065; NIOSH-352-A). NIOSH is extending the public comment period to January 10, 2025. The comment period is being extended to provide an informational webinar and allow additional time for comment. Specific review questions to be considered are included in the initial Federal Register notice published on September 13, 2024 at 89 FR 74960.

The final document will be used as the scientific evidence base to inform the development of supplementary educational materials for workers, employers, and other relevant audiences to support the implementation of the recommendations. Therefore, comments that focus on the understandability, accessibility, and feasibility of the recommendations are requested.

The draft Hazard Review was developed to provide the scientific rationale for characterizing hazards of exposure to wildland fire smoke for outdoor workers. The draft Hazard Review also provides recommendations and guidance for minimizing exposures and potential health effects associated with wildland fire smoke for outdoor workers.

After the comments received on the draft Hazard Review are considered and addressed, the final Hazard Review will be posted on the NIOSH website.

Dated: October 28, 2024.
John J. Howard,
Director, National Institute for Occupational Safety and Health, Centers for Disease Control and Prevention, Department of Health and Human Services.

[FR Doc. 2024-25356 Filed 10-30-24; 8:45 am]

BILLING CODE 4163-18-P